DEPARTMENT OF THE INTERIOR

Bureau of Land Management

DEPARTMENT OF AGRICULTURE

Forest Service

[LLOR9300000.5100000.ER0000.LVRWH09H03200.HAG12-0267]

Notice of Intent To Prepare an Environmental Impact Statement for the Proposed Pacific Connector Gas Pipeline Right-of-Way Grant in Oregon and Possible Land Use Plan Amendments

AGENCY: Bureau of Land Management, Interior; Forest Service, USDA.

ACTION: Notice.

SUMMARY: In compliance with the National Environmental Policy Act of 1969 (NEPA), as amended; the Federal Land Policy and Management Act of 1976 (FLPMA), as amended; and the National Forest Management Act of 1976 (NFMA), as amended, the Bureau of Land Management (BLM) Coos Bay, Roseburg, and Medford Districts and the Klamath Falls Resource Area of the Lakeview District in Oregon and the Forest Service Umpqua, Rogue River, and Winema National Forests, Oregon, propose to amend their land management plans to make provision for the proposed Pacific Connector Gas Pipeline (Project) if the Project is authorized by the Federal Energy Regulatory Commission (FERC or the Commission). The BLM also proposes to respond to Pacific Connector LP's application for a right-of-way grant for the Project to occupy Federal lands. The FERC is the lead agency for preparation of an Environmental Impact Statement (EIS) for the proposed Pacific Connector Gas Pipeline (FERC Docket PF12-17), which includes the analysis for possible land use plan amendments.

DATES: This notice announces the opening of the scoping process the BLM and the Forest Service will use to gather input from the public and interested agencies concerning amendment of BLM and Forest Service land management plans and possible issuance of the right-of-way grant by the BLM. Your input will help the BLM, the Forest Service, and Commission staffs determine what issues to evaluate in the EIS that FERC is preparing for the Pacific Connector Gas Pipeline. Please note that your comments must be received by October 29, 2012, to receive full consideration in the preparation of the EIS.

You may submit comments either in written form or orally or both. You may submit your comments orally or in writing at public scoping meetings announced in the FERC's Notice of Intent published on August 13, 2012 (77 FR 48138), or at three additional public scoping meetings scheduled by the FERC as lead agency, in cooperation with the BLM and the Forest Service at the following times and locations:

October 9, 2012, 6:30 p.m., Mill Casino-Hotel, 3201 Tremont Ave., North Bend, OR 97459.

October 10, 2012, 6:30 p.m., Seven Feathers Casino Resort, 146 Chief Miwaleta Lane, Canyonville, OR 97417.

October 11, 2012, 6:30 p.m., Malin Community Park Hall, 2307 Front St., Malin, OR 97632.

ADDRESSES: The FERC is the lead agency for preparation of the EIS for the Pacific Connector Gas Pipeline so written comments on actions by the BLM or the Forest Service must be submitted through the FERC's comment process and within the timelines described in this notice so that they may be considered in preparation of the EIS.

There are three methods you can use to submit your comments to the FERC. In all instances, please reference the docket number for the Pacific Connector Gas Pipeline (PF12-17-000) with your submission. The Commission encourages electronic filing of comments and has expert staff available to assist you at (202) 502-8258 or efiling@ferc.gov.

• Web site: www.ferc.gov. Use the eComment feature under the Documents & Filings link for brief, text-only comments on actions proposed by the BLM and the Forest Service. Use the eFiling feature under the Documents and Filings link for providing comments in a variety of formats by attaching them as a file with your submission. New eFiling users must create an account by clicking on “eRegister.” You must select the type of filing you are making. If you are filing a comment on a particular project, please select, “Comment on a Filing.”

• Mail: Kimberly D. Bose, Secretary, Federal Energy Regulatory Commission, 888 First Street NE., Room 1A, Washington DC 20426.

Any comments submitted directly to the BLM and the Forest Service will be forwarded to the FERC for inclusion in the public record. Before including your address, phone number, email address, or other personal identifying information in your comments, you should be aware that the entire text of your comments—including your personal identifying information—would be publicly available through the FERC elibrary system.

FOR FURTHER INFORMATION CONTACT: Holly Orr, BLM National Project Manager, 28910 Hwy 20 West, Hines, OR 97738; telephone: 541-573-4501; fax: 541-573-4411; email: horr@blm.gov. Wes Yamamoto, Forest Service Project Manager, Umpqua National Forest, Tiller Ranger Station, 27812 Tiller Trail Highway, Tiller, OR 97484; telephone: 541-825-3100; fax: 541-825-3110; email: wyamamoto@fs.fed.us. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Section 313 of the 2005 Energy Policy Act requires the Forest Service and the BLM to cooperate with the Commission when considering aspects of an application for Federal authorization of natural gas pipelines. Section 372 of the 2005 Energy Policy Act directed the Secretary of Energy in consultation with the Secretaries of Agriculture, Interior, and Defense to coordinate all applicable Federal authorizations and environmental reviews relating to a proposed or existing utility facility, including an agreement to prepare a single environmental review document to be used as the basis for all Federal authorization decisions.

On Monday, August 13, 2012, the FERC published a Notice of Intent to prepare an EIS for the planned Jordan Cove Liquefaction and Pacific Connector Gas Pipeline projects in the Federal Register (77 FR 48138). The BLM and the Forest Service are cooperating agencies for preparation of this EIS. The EIS prepared by the FERC will address impacts of the Pacific Connector Gas Pipeline that occur on lands administered by the BLM and the Forest Service, including those associated with proposed land management plan amendments and possible issuance of the right-of-way grant.

The BLM and the Forest Service will consider the FERC EIS in their evaluation of proposed land management plan amendments. The BLM will also consider adoption of the FERC EIS in its evaluation of, and response to, the application for a right-of-way grant by Pacific Connector Gas Pipeline LP.

The BLM and the Forest Service have identified possible land management plan amendments that may be necessary to make provision for the Pacific Connector Gas Pipeline. The BLM and the Forest Service have jurisdiction by law for amendment of their land management plans. Unless otherwise noted in the description of the Proposed Action, these amendments would only apply to the Pacific Connector Gas Pipeline, and they would be implemented only if FERC authorizes the construction of the Project. The BLM has jurisdiction by law for response to the application by the proponents of the proposed Pacific Connector Gas Pipeline for a right-of-way grant to occupy Federal lands if the Commission authorizes the Project.

The Federal Land Policy and Management Act and National Forest Management Act require that actions on these Federal lands be consistent with the land management plans for the administrative units where the action would occur. In order for the Pacific Connector Gas Pipeline to proceed, the BLM must issue a right-of-way grant for occupancy of Federal lands by the Project. The Forest Service must concur with issuance of the right-of-way grant for areas where the Pacific Connector Gas Pipeline crosses National Forest System lands. Proposed amendments of BLM and Forest Service land management plans would be implemented only if the Commission authorizes the Pacific Connector Gas Pipeline.

Additional information about the Pacific Connector Gas Pipeline is available from the Commission's Office of External Affairs, at 866-208-FERC, or on the FERC Web site (www.ferc.gov). On the FERC Web page, go to Documents & Filings and click on the eLibrary link. Then click on General Search, and enter the docket number, excluding the last three digits in the Docket Number field (i.e., PF12-17). Be sure you have selected an appropriate date range. For assistance, please contact FERC Online Support at FercOnlineSupport@ferc.gov or toll free at 866-208-3676, or for TTY, contact 202-502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits hosted by the Commission will be posted on the Commission's calendar located at www.ferc.gov/EventCalendar/EventsList.aspx along with other related information.

Purpose and Need for Action by the BLM and the Forest Service

The purpose of and need for the proposed action by the BLM is to respond to a right-of way grant application originally submitted by Pacific Connector on April 17, 2006, to construct, operate, maintain, and eventually decommission a natural gas pipeline that crosses lands and facilities administered by the BLM, the Bureau of Reclamation, and the Forest Service. In addition, there is a need for the BLM and the Forest Service to consider amending affected district and forest land management plans to make provision for the Pacific Connector right-of-way.

Proposed Actions of the BLM and the Forest Service

The proposed action of the BLM and the Forest Service has two components. First, the BLM would amend its Resource Management Plans (RMP) for the Coos Bay, Roseburg, and Medford Districts, and Klamath Falls Resource Area of the Lakeview District, while the Forest Service would amend its Land and Resource Management Plans (LRMP) for the Umpqua, Rogue River, and Winema National Forests to make provisions for the Pacific Connector Gas Pipeline. Second, in accordance with 43 CFR 2884.26, the BLM would issue a right-of-way grant in response to Pacific Connector's application for the Project to occupy Federal lands, with the written concurrence of the Forest Service and the Bureau of Reclamation. Each agency may submit specific stipulations, including mitigations, for inclusion in the right-of-way grant related to lands, facilities, and easements within their respective jurisdictions.

Amendment of Bureau of Land Management and Forest Service Land Management Plans

BLM/FS-1, Site-Specific Waiver of Management Recommendations for Survey and Manage Species on the BLM Coos Bay District, Roseburg District, Medford District, and Klamath Falls Resource Area of the Lakeview District RMPs, and the Umpqua National Forest, Rogue River National Forest, and Winema National Forest LRMPs: Applicable BLM district RMPs and Forest Service national forest LRMPs would be amended to exempt certain known sites within the area of the proposed Pacific Connector right-of-way grant from the Management Recommendations required by the 2001 “Record of Decision and Standards and Guidelines for Amendments to the Survey and Manage, Protection Buffer, and other Mitigation Measures Standards and Guidelines,” as modified in July 2011. For known sites within the proposed right-of-way that cannot be avoided, the amendment would specify that the 2001 Management Recommendations for protection of known sites of Survey and Manage species would not apply. For known sites located outside the proposed right-of-way but with an overlapping protection buffer, only that portion of the buffer within the right-of-way would be exempt from the protection requirements of the Management Recommendations under the amendment. The Management Recommendations would remain in effect for that portion of the protection buffer that is outside of the right-of-way. The proposed amendment would not exempt the BLM or the Forest Service from the requirements of the 2001 Survey and Manage Record of Decision, as modified, to maintain species persistence for affected Survey and Manage species within the range of the northern spotted owl. This is a site-specific amendment applicable only to the Pacific Connector right-of-way and would not change future management direction at any other location.

Amendments of BLM Resource Management Plans

BLM-1, Site-Specific Exemption of Requirement to Protect Marbled Murrelet Habitat on the BLM Coos Bay and Roseburg Districts: The Coos Bay District and Roseburg District RMPs would be amended to waive the requirements to protect contiguous existing and recruitment habitat for marbled murrelets within the Pacific Connector right-of-way that is within 0.5 miles of occupied marbled murrelet sites, as mapped by the BLM. This is a site-specific amendment applicable only to the Pacific Connector right-of-way and would not change future management direction at any other location.

BLM-2, Site Specific Exemption of Requirement To Retain Habitat in Known Owl Activity Centers on the BLM Roseburg District: The RMP for the Roseburg District would be amended to exempt the Pacific Connector pipeline project from the requirement to retain habitat in Known Owl Activity Centers at three locations. This is a site-specific amendment applicable only to the Pacific Connector right-of-way and would not change future management direction at any other location.

BLM-3, Reallocation of Matrix Lands to Late Successional Reserves: The Roseburg District RMP would be amended to change the designation of approximately 409 acres from the Matrix land allocations to the Late Successional Reserves (LSR) land allocation in Sections 32 and 34, Township (T.) 29 ½ South (S.), Range (R.) 7 West (W.); and Section 1, T. 30 S., R. 7 W.,Willamette Meridian (W.M.), Oregon. This change in land allocation is proposed to mitigate the potential adverse impact of the Pacific Connector pipeline project on LSRs in the Roseburg District. The amendment would change future management direction for the lands reallocated from matrix lands to LSR.

BLM-4, Reallocation of Matrix Lands to Late Successional Reserves: The Coos Bay District RMP would be amended to change the designation of approximately 454 acres from the matrix land allocations to the LSR land allocation in Sections 19 and 29 of T. 28 S., R. 10 W., W. M., Oregon. This change in land allocation is proposed to mitigate the potential adverse impact of the Pacific Connector pipeline project on LSRs in the Coos Bay District. The amendment would change future management direction for the lands reallocated from matrix lands to LSR.

Amendment of the Umpqua National Forest LRMP

NF-1, Site-Specific Amendment To Allow Removal of Effective Shade on Perennial Streams: The Umpqua National Forest LRMP would be amended to change the Standards and Guidelines for Fisheries (Umpqua National Forest LRMP, page IV-33, Forest-Wide) to allow the removal of effective shading vegetation where perennial streams are crossed by the Pacific Connector right-of-way. This change would potentially affect an estimated total of 3 acres of effective shading vegetation at approximately five perennial stream crossings in the East Fork of Cow Creek subwatershed from pipeline mileposts (MP) 109 to 110 in Sections 16 and 21, T. 32 S., R. 2 W., W. M., Oregon. This is a site-specific amendment that would apply only to the Pacific Connector right-of-way and would not change future management direction at any other location.

UNF-2, Site-Specific Amendment To Allow Utility Corridors in Riparian Areas: The Umpqua National Forest LRMP would be amended to change prescriptions C2-II (LRMP IV-173) and C2-IV (LRMP IV-177) to allow the Pacific Connector pipeline route to run parallel to the East Fork of Cow Creek for approximately 0.1 mile between about pipeline MPs 109.5 and 109.6 in Section 21, T. 32 S., R. 2 W., W. M., Oregon. This change would potentially affect approximately 1 acre of riparian vegetation along the East Fork of Cow Creek. This is a site-specific amendment that would apply only to the Pacific Connector right-of-way and would not change future management direction at any other location.

UNF-3, Site-Specific Amendment To Waive Limitations on Detrimental Soil Conditions within the Pacific Connector Right-of-Way in All Management Areas: The Umpqua National Forest LRMP would be amended to waive limitations on the area affected by detrimental soil conditions from displacement and compaction within the Pacific Connector right-of-way. Standards and Guidelines for Soils (LRMP page IV-67) requires that not more than 20 percent of the project area have detrimental compaction, displacement, or puddling after completion of a project. This is a site-specific amendment that would apply only to the Pacific Connector right-of-way and would not change future management direction at any other location.

UNF-4, Reallocation of Matrix Lands to Late Successional Reserves: The Umpqua National Forest LRMP would be amended to change the designation of approximately 588 acres from the matrix land allocation to the LSR land allocation in Sections 7, 18, and 19, T. 32 S., R. 2 W., W. M., Oregon; and Sections 13 and 24, T. 32 S., R. 3 W., W. M., Oregon. This change in land allocation is proposed to partially mitigate the potential adverse impact of the Pacific Connector pipeline project on LSR 223 on the Umpqua National Forest. This amendment would change future management direction for the lands reallocated from matrix to LSR.

Amendment of the Rogue River National Forest LRMP

RRNF-1, Amendment to Provide for Energy Transmission: The Rogue River National Forest LRMP would be amended to establish a Forest Plan objective that states: “While considering other multiple use values, the Forest shall facilitate and make provision for energy transmission via the Pacific Connector consistent with the Energy Policy Act of 2005, the Mineral Leasing Act, the Natural Gas Act, the Multiple Use Sustained Yield Act, and the National Forest Management Act.”

RRNF-2, Site-Specific Amendment of Visual Quality Objectives on the Big Elk Road: The Rogue River National Forest LRMP would be amended to change the Visual Quality Objective (VQO) where the Pacific Connector pipeline route crosses the Big Elk Road at about pipeline MP 161.4 in Section 16, T. 37 S., R. 4 E., W. M., Oregon, from Foreground Retention (Management Strategy 6, LRMP page 4-72) to Foreground Partial Retention (Management Strategy 7, LRMP page 4-86) and allow 10-15 years for amended visual quality objectives to be attained. The existing Standards and Guidelines for VQO in Foreground Retention where the Pacific Connector pipeline route crosses the Big Elk Road require that VQOs be met within 1 year of completion of the project and that management activities not be visually evident. This amendment would apply only to the Pacific Connector pipeline project in the vicinity of Big Elk Road and would not change future management direction for any other project.

RRNF-3, Site-Specific Amendment of Visual Quality Objectives on the Pacific Crest Trail: The Rogue River National Forest LRMP would be amended to change the VQO where the Pacific Connector pipeline route crosses the Pacific Crest Trail at about pipeline MP 168 in Section 32, T. 37 S., R. 5 E., W. M., Oregon, from Foreground Partial Retention (Management Strategy 7, LRMP page 4-86) to Modification (USDA Forest Service Agricultural Handbook 478) and to allow 15-20 years for amended VQOs to be attained. The existing Standards and Guidelines for VQOs in Foreground Partial Retention in the area where the Pacific Connector pipeline route crosses the Pacific Crest Trail require that visual mitigation measures meet the stated VQO within 3 years of the completion of the project and that management activities be visually subordinate to the landscape. This amendment would apply only to the Pacific Connector pipeline project in the vicinity of the Pacific Crest Trail and would not change future management direction for any other project.

RRNF-4, Site-Specific Amendment of Visual Quality Objectives Adjacent to Highway 140: The Rogue River National Forest LRMP would be amended to allow 10-15 years to meet the VQO of Middleground Partial Retention between Pacific Connector pipeline MPs 156.3 to 156.8 and 157.2 to 157.5 in Sections 11 and 12, T. 37 S., R. 3 E., W. M., Oregon. Standards and Guidelines for Middleground Partial Retention (Management Strategy 9, LRMP Page 4-112) require that VQOs for a given location be achieved within 3 years of completion of the project. Approximately 0.8 miles or 9 acres of the Pacific Connector right-of-way in the Middleground Partial Retention VQO visible at distances of 0.75 to 5 miles from State Highway 140 would be affected by this amendment. This amendment would apply only to the Pacific Connector pipeline project in Sections 11 and 12, T .37 S., R. 3 E., W. M., Oregon, and would not change future management direction for any other project.

RRNF-5, Site-Specific Amendment to Allow Utility Transmission Corridors in Management Strategy 26, Restricted Riparian Areas: The Rogue River National Forest LRMP would be amended to allow the Pacific Connector right-of-way to cross the Restricted Riparian land allocation. This would potentially affect approximately 2.5 acres of the Restricted Riparian Management Strategy at one perennial stream crossing on the South Fork of Little Butte Creek at about pipeline MP 162.45 in Section 15, T. 37 S., R. 4 E., W. M., Oregon. Standards and Guidelines for the Restricted Riparian land allocation prescribe locating transmission corridors outside of this land allocation (Management Strategy 26, LRMP page 4-308,). This amendment would apply only to the Pacific Connector pipeline right-of-way and would not change future management direction at any other location.

RRNF-6, Site-Specific Amendment To Waive Limitations on Detrimental Soil Conditions Within the Pacific Connector Right-of-Way in All Management Areas: The Rogue River National Forest LRMP would be amended to waive limitations on areas affected by detrimental soil conditions from displacement and compaction within the Pacific Connector right-of-way in all affected Management Strategies. Standards and Guidelines for detrimental soil impacts in affected Management Strategies require that no more than 10 percent of an activity area should be compacted, puddled, or displaced upon completion of project (not including permanent roads or landings). No more than 20 percent of the area should be displaced or compacted under circumstances resulting from previous management practices including roads and landings. Permanent recreation facilities or other permanent facilities are exempt (RRNF LRMP 4-41, 4-83, 4-97, 4-123, 4-177, 4-307). This is a site-specific amendment applicable only to the Pacific Connector right-of-way and would not change future management direction for at any other location.

RRNF-7, Reallocation of Matrix Lands to Late Successional Reserves: The Rogue River National Forest LRMP would be amended to change the designation of approximately 512 acres from the matrix land allocation to the LSR land allocation in Section 32, T. 36 S., R. 4 E., W. M., Oregon. This change in land allocation is proposed to partially mitigate the potential adverse impact of the Pacific Connector pipeline project on LSR 227 on the Rogue River National Forest. This amendment would change future management direction for the lands reallocated from Matrix to LSR.

Amendment of the Winema National Forest LRMP

WNF-1, Site-Specific Amendment To Allow Utility Corridors in Management Area 3: The Winema National Forest LRMP would be amended to change the Standards and Guidelines for Management Area 3 (MA-3) (LRMP page 4-103-4, Lands) to allow the 95-foot-wide Pacific Connector pipeline corridor in MA-3 from the Forest Boundary in Section 32, T. 37 S., R. 5 E., W. M., Oregon, to the Clover Creek Road corridor in Section 4, T. 38 S., R. 5 E., W. M., Oregon. Standards and Guidelines for MA-3 state that the area is currently an avoidance area for new utility corridors. This proposed new utility corridor is approximately 1.5 miles long and occupies approximately 17 acres. This is a site-specific amendment that would apply only to the Pacific Connector right-of-way and would not change future management direction at any other location.

WNF-2, Site-Specific Amendment of Visual Quality Objectives on the Dead Indian Memorial Highway: The Winema National Forest LRMP would be amended to allow 10-15 years to achieve the VQO of Foreground Retention where the Pacific Connector right-of-way crosses the Dead Indian Memorial Highway at approximately pipeline MP 168.8 in Section 33, T. 37 S., R. 5 E., W. M., Oregon. Standards and Guidelines for Scenic Management, Foreground Retention (LRMP 4-103, MA 3A, Foreground Retention) requires VQOs for a given location be achieved within 1 year of completion of the project. The Forest Service proposes to allow 10-15 years to meet the specified VQO at this location. This is a site-specific amendment that would apply only to the Pacific Connector pipeline project in the vicinity of the Dead Indian Memorial Highway and would not change future management direction for any other project.

WNF-3, Site-Specific Amendment of Visual Quality Objectives Adjacent to the Clover Creek Road: The Winema National Forest LRMP would be amended to allow 10-15 years to meet the VQO for Scenic Management, Foreground Partial Retention, where the Pacific Connector right-of-way is adjacent to the Clover Creek Road from approximately pipeline MP 170 to 175 in Sections 2, 3, 4, 11, and 12, T. 38 S., R. 5 E., and Sections 7 and 18, T. 38 S., R. 6 E., W. M., Oregon. This change would potentially affect approximately 50 acres. Standards and Guidelines for Foreground Partial Retention (LRMP, page 4-107, MA 3B) require that VQOs be met within 3 years of completion of a project. This is a site-specific amendment that would apply only to the Pacific Connector pipeline project in the vicinity of Clover Creek road and would not change future management direction for any other project.

WNF-4, Site-Specific Amendment To Waive Limitations on Detrimental Soil Conditions within the Pacific Connector Right-of-Way in All Management Areas: The Winema National Forest LRMP would be amended to waive restrictions on detrimental soil conditions from displacement and compaction within the Pacific Connector right-of-way in all affected management areas. Standards and Guidelines for detrimental soil impacts in all affected management areas require that no more than 20 percent of the activity area be detrimentally compacted, puddled, or displaced upon completion of a project (LRMP page 4-73, 12-5). This is a site-specific amendment applicable only to the Pacific Connector right-of-way and would not change future management direction at any other location.

WNF-5, Site-Specific Amendment To Waive Limitations on Detrimental Soil Conditions within the Pacific Connector Right-of-Way in Management Area 8: The Winema National Forest LRMP would be amended to waive restrictions on detrimental soil conditions from displacement and compaction within the Pacific Connector right-of-way within the Management Area 8, Riparian Area (MA-8). This change would potentially affect approximately 0.5 mile or an estimated 9.6 acres of MA-8. Standards and Guidelines for Soil and Water, MA-8 require that not more than 10 percent of the total riparian zone in an activity area be in a detrimental soil condition upon the completion of a project (LRMP page 4-137, 2). This is a site-specific amendment applicable only to the Pacific Connector right-of-way and would not change future management direction at any other location.

Lead Agency

The Federal Energy Regulatory Commission is the lead agency for preparation of an EIS for the Pacific Connector Gas Pipeline.

Responsible Officials

The Secretary of the Interior has delegated authority to the BLM to potentially grant a right-of-way in response to Pacific Connector's application for natural gas transmission on Federal lands under the Mineral Leasing Act of 1920. The Responsible Official for the proposed amendments of the BLM RMPs and potential issuance of the right-of-way grant is the BLM Oregon/Washington State Director. The Responsible Official for the proposed amendment of Forest Service LRMPs is the Forest Supervisor of the Umpqua National Forest. In accordance with 36 CFR 219.17(b)(2), the Deciding Official for the Forest Service has elected to use the 1982 planning rule procedures to amend Forest Service LRMPs as provided in the transition procedures of the 2000 planning rule.

Nature of Decision To Be Made

If the BLM adopts the new FERC EIS for the Pacific Connector pipeline project (in Docket No. PF12-17-000), the BLM Oregon/Washington State Director will make the following decisions and determinations:

• Determine whether to amend the RMPs for the BLM Coos Bay, Roseburg, and Medford Districts and the Klamath Falls Resource Area of the Lakeview District as proposed or as described in an alternative to the Proposed Action; and

• Respond to the Pacific Connector application with concurrence of the Bureau of Reclamation and the Forest Service by issuing a right-of-way grant, granting the right-of-way with conditions, or denying the application.

If the Forest Service adopts the new FERC EIS for the Pacific Connector pipeline project (in Docket No. PF12-17-000), the Forest Supervisor of the Umpqua National Forest will make the following decisions and determinations:

• Decide whether to amend the LRMPs of the Umpqua, Rogue River, and Winema National Forests as proposed or as described in an alternative; and

• Determine the significance of the proposed amendments or alternatives in accordance with national forest planning regulation 36 CFR 219.10(f) (1982 procedures) using criteria in Forest Service Manual 1926.5.

Scoping Process: The BLM and the Forest Service seek public input on issues and planning criteria related to issuance of the Right-of-Way Grant. The BLM and the Forest Service seek public input on issues and planning criteria related to amendment of their district and forest land management plans related to the Pacific Connector pipeline project. All comments received related to actions of the BLM and the Forest Service will be considered in the preparation of land management plan amendments and issuance of a right-of-way grant for the Project.

It is important that reviewers provide their comments at such times and in such manner that they are useful to the agency's preparation of the environmental impact statement. Therefore, comments should be provided prior to the close of the comment period and should clearly articulate the reviewer's concerns and contentions. Your comments should focus on the potential changes in the goods and services that are provided by affected BLM districts and National Forests, reasonable alternatives, and measures to avoid or lessen any adverse changes in the goods and services produced. The more specific your comments, the more useful they will be.

Currently Identified Issues Specific to Proposed BLM and Forest Service Land Management Plan Amendments

The purpose of the public scoping process is to determine relevant issues that will influence the scope of the environmental analysis, including alternatives, and guide the plan amendment process. Preliminary issues for the plan amendments have been identified by BLM and Forest Service personnel, Federal, State, and local agencies, and other stakeholders. The issues include:

• Effects of proposed amendments on Survey and Manage species and their habitat;

• Effects of proposed amendments on contiguous existing or recruitment habitat for marbled murrelets within 0.5 mile of occupied marbled murrelet sites;

• Effects of proposed amendments on habitat in Known Owl Activity Centers, and

• Effects of the proposed amendments on Late Successional Reserves.

Preliminary BLM and Forest Service planning criteria include:

• Evaluation of significance of proposed amendments to Forest Service LRMPs in the context of LRMP goals and objectives. Whether a plan amendment is significant is guided by several factors, including the timing and duration of the proposed change, the location and size of the project, and how the proposed change could alter multiple-use goals and objectives for long-term land and resource management.

• Likelihood of persistence of affected Survey and Manage species within the range of the northern spotted owl.

• Amount and quality of marbled murrelet habitat affected by construction and operation of the Pacific Connector pipeline project.

• Amount and quality of habitat in Known Owl Activity Centers affected by construction and operation of the Pacific Connector pipeline project.

• Functionality of LSRs.

• Impacts on Connectivity and Diversity Blocks on BLM lands.

Administrative Review of Bureau of Land Management and Forest Service Decisions To Amend Land Management Plans and Appeal of BLM Response to Right-of-Way Grant Application

Decisions by the BLM and the Forest Service to amend land management plans are subject to administrative review. In accordance with 36 CFR 219.59, the Forest Service has elected to use the administrative review procedures (otherwise known as protest procedures) of the BLM. Administrative objections to Forest Service land management plan amendment decisions and protests of BLM land management plan amendment decisions may be filed under the provisions of 43 CFR 1610.5-2. The BLM's decision on the application for a right-of-way grant may be appealed to the Interior Board of Land Appeals in accordance with 43 CFR part 4.

The submission of timely and specific comments can affect a reviewer's ability to participate in subsequent administrative appeal or judicial review. Comments received in response to this solicitation, including names and addresses of those who comment, will be part of the public record for this proposed action. Comments submitted anonymously will be accepted and considered; however, anonymous comments will not provide the respondent with standing to object to the subsequent decision.

Michael S. Mottice,
Acting BLM State Director, Oregon/Washington.
Alice B. Carlton,
FS Forest Supervisor, Umpqua National Forest.

[FR Doc. 2012-23206 Filed 9-20-12; 8:45 am]

BILLING CODE 4310-33-P